FEDERAL COMMUNICATIONS COMMISSION

Notice of Public Information Collection(s) being Reviewed by the Federal Communications Commission for Extension Under Delegated Authority, Comments Requested

May 22, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments July 30, 2002. If you anticipate that you will be submitting comments, but find it difficult to do so within the period of time allowed by this notice, you should advise the contact listed below as soon as possible.

ADDRESSES: Direct all comments to Judy Boley Herman, Federal Communications Commission, 445 12th Street, SW, Room 1-C804, Washington, DC 20554 or via the Internet to jboley@fcc.gov.

FOR FURTHER INFORMATION CONTACT: For additional information or copies of the information collections contact Judy Boley Herman at 202-418-0214 or via the Internet at jboley@fcc.gov.

SUPPLEMENTARY INFORMATION: OMB Control No.: 3060-0185.

Title: Section 73.3613, Filing of Contracts.

Form No.: N/A.

Type of Review: Extension of a currently approved collection.

Respondents: Business or other for-profit.

Number of Respondents: 2,080.

Estimated Time Per Response: .50-.75 hours.

Frequency of Response: On occasion reporting requirement, and recordkeeping requirement.

Total Annual Burden: 910 hours.

Annual Reporting and Recordkeeping Cost Burden: $52,000.

Needs and Uses: Section 73.3613 requires that licensees of TV and low power TV broadcast stations file copies of network affiliation contracts, instruments, and documents together with amendments, supplements and cancellations with the FCC. In addition, all radio and full service TV broadcast station licensees are required to file contracts, instruments or documents relating to ownership or control and certain personnel agreements with the Commission. Section 73.3613 also requires licensees to file, within 30 days of execution, a copy of any radio time brokerage agreement which would result in the arrangement being counted in determining the brokering licensee's compliance with local and national multiple ownership rules with the FCC. Certain contracts, agreements or understandings need not be filed with the FCC under Section 73.3613(e), but must be retained at the station and be made available for inspection upon request by the FCC. The contracts filed with the FCC and filed in the station file are used by FCC staff to assure that a licensee maintains full control over the operation and maintenance of the station.

Federal Communications Commission.
Marlene H. Dortch,
Secretary.

[FR Doc. 02-13647 Filed 5-30-02; 8:45 am]

BILLING CODE 6712-01-P